DEPARTMENT OF JUSTICE

[AAG/A Order No. 247-2001]

Privacy Act of 1974; System of Records

Pursuant to the Privacy Act of 1974 (5 U.S.C. 552a), notice is hereby given that the Department of Justice is establishing a new system of records entitled “Department of Justice Staffing and Classification System, Justice/JMD-021.”

The Department of Justice Staffing and Classification System is a system of records that allows certain bureaus within DOJ to recruit, examine, and hire applicants. The system is being established to enable Human Resource supervisors and managers to streamline the process for applicants applying for federal employment, and for applicant hiring.

Title 5 U.S.C. 552a(e) (4) and (11) provide that the public be given a 30-day period in which to comment. The Office of Management and Budget (OMB), which has oversight responsibilities under the Act, requires a 40-day period in which to conclude its review of the system. Therefore, please submit any comments by November 29, 2001. The public, OMB, and the Congress are invited to submit written comments to Mary Cahill, Management Analyst, Management and Planning Staff, Justice Management Division, Department of Justice, Washington, DC 20530 (Room 1400, National Place Building).

In accordance with 5 U.S.C. 552a(r), the Department has provided a report to OMB and the Congress on the proposed new system of records.

Dated: October 19, 2001.
Janis Sposato,
Acting Assistant Attorney General for Administration.

JUSTICE/JMD-021

SYSTEM NAME:

Department of Justice (DOJ) Staffing and Classification System, Justice/JMD-021.

SYSTEM LOCATION:

The primary location of the system's server is at a DOJ contractor site in Tacoma, Washington; sub-systems are located in various offices within the Department of Justice (DOJ).

CATEGORIES OF INDIVIDUALS COVERED BY THE SYSTEM:

Non-Federal applicants applying for Federal employment; current and former Federal employees.

CATEGORIES OF RECORDS IN THE SYSTEM:

Records in this system include: applicant's name, social security number, residence address, phone number, employment history, and other personal information provided by the applicant in connection with applying for Federal employment.

AUTHORITY FOR MAINTENANCE OF THE SYSTEM:

This system is established and maintained under the authority of sections 1104, 1302, 3301, 3304, 3320, and 3361, of Title 5 of the United States Code; and Executive Order 9397.

PURPOSE OF THE SYSTEM:

This system is being established to evaluate applicants' qualifications and to facilitate selection of positions, through a subscription service to an internet based electronic recruitment system. Supervisors and managers will review a list of eligible applicants to fill position vacancies. Under the Paperwork Reduction Act of 1995, (44 U.S.C. Chapter 35), Federal agencies are required by October 21, 2003, to provide the public with alternate ways for submitting and disclosing paperwork, such as, electronically, when practicable. This streamlined process will be used primarily by Human Resource offices to produce lists of eligibles for position vacancies.

ROUTINE USES OF RECORDS MAINTAINED IN THE SYSTEM, INCLUDING CATEGORIES OF USERS AND THE PURPOSES OF SUCH USES:

Pursuant to subsection (b)(3) of the Privacy Act, relevant and necessary information may be disclosed from this system as follows:

A. In an appropriate proceeding before a court, grand jury, or administrative or regulatory body when records are determined by DOJ to be arguably relevant to the proceeding.

B. To an actual or potential party to litigation or the party's authorized representative for the purpose of negotiation or discussion on such matters as settlement, plea bargaining, or in informal discovery proceedings.

C. To the Office of Personnel Management for internal audits of case files under the authority of 5 CFR 5.2(b).

D. To the news media and the public pursuant to 28 CFR 50.2 unless it is determined that release of the specific information in the context of a particular case would constitute an unwarranted invasion of personal privacy.

E. To a Member of Congress or staff acting upon the Member's behalf when the Member or staff requests the information on behalf of an individual who is the subject of the record.

F. To the General Services Administration and National Archives and Records Administration in records management inspections conducted under the authority of 44 U.S.C. 2904 and 2906.

G. Where a record, either on its face or in conjunction with other information, indicates a violation or potential violation of law, to any civil or criminal law enforcement authority or other appropriate agency, whether Federal, State, local, foreign, or tribal, charged with the responsibility of investigating or prosecuting such a violation or enforcing or implementing a statute, rule, regulation, or order.

H. To a Federal agency or entity that requires information relevant to a decision concerning the hiring, appointment, or retention of an employee, the issuance of a security clearance, the conduct of a security or suitability investigation, or pursuit of other appropriate personnel matter.

I. To a Federal, State, local, or tribal agency or entity that requires information relevant to a decision concerning the letting of a license or permit, the issuance of a grant or benefit, or other need for the information in performance of official duties.

J. To contractors, grantees, experts, consultants, students, and others performing or working on a contract, service, grant, cooperative agreement, or other assignment for the Federal Government, when necessary to accomplish an agency function related to this system of records.

K. To a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

L. To such recipients and under such circumstances and procedures as are mandated by federal statute or treaty.

POLICIES AND PRACTICES FOR STORING, RETRIEVING, ACCESSING, RETAINING, AND DISPOSING OF RECORDS IN THE SYSTEM: STORAGE:

Records will be stored electronically at a DOJ contract site in Tacoma, Washington, and a back-up tape will be stored at each DOJ office site.

RETRIEVABILITY:

Records are retrieved by the applicant name, social security number, or other unique identifier.

SAFEGUARDS:

The electronic records are secured with state-of-the art security management and firewall technology and are protected on a twenty-four hours a day basis with intrusion detection monitoring using Internet Security Systems (ISS) Real Secure. Data is protected by encryption. Access is restricted to those who have a user identification, password, certificate of authentication, and permissions created and maintained by the JMD Personnel Staff.

RETENTION AND DISPOSAL:

Records are to be retained and disposed of in accordance with the agency retention plan; the National Archives and Records Administration, General Records Schedule 1; and Part 293 of Title 5, Code of Federal Regulations.

SYSTEM MANAGER(S) AND ADDRESS:

Director of Human Resources, JMD Personnel Staff, U.S. Department of Justice, 950 Pennsylvania Ave, NW., Washington, DC 20530.

NOTIFICATION PROCEDURES:

To determine whether the system may contain records relating to you, write to the Director of Human Resources, JMD Personnel Staff, identified above.

RECORD ACCESS PROCEDURES:

Address access requests to the Director of Human Resources, JMD Personnel Staff, at the address provided above. Include the name or number of the system of records; your full name and address and other information as instructed in 28 CFR 16.41(d); a description of information being sought; and a time frame during which the records may have been generated.

CONTESTING RECORDS PROCEDURE:

Individuals contesting or amending information should direct their request to the Director of Human Resources, JMD Personnel Staff, listed above, stating clearly and concisely what information is being contested, the reason for contesting it, and the proposed amendment to the information sought.

RECORD SOURCE CATEGORIES:

Information contained within the Department of Justice Classification and Staffing System is obtained from applicants or current/former employees.

SYSTEMS EXEMPTED FROM CERTAIN PROVISIONS OF THE ACT:

None.

[FR Doc. 01-27199 Filed 10-29-01; 8:45 am]

BILLING CODE 4410-FB-P